DEPARTMENT OF AGRICULTURE

Agricultural Research Service

Notice of Intent To Seek Renewal of an Information Collection

AGENCY: Agricultural Research Service, USDA.

ACTION: Notice and request for comments.

SUMMARY: In accordance with the Paperwork Reduction Act of 1995 and the office of Management and Budget (OMB) regulations, this notice announces the Agricultural Research Service's (ARS) intent to seek reinstatement of the ARS Animal Health National Program Assessment Survey. This voluntary information collection will give beneficiaries of ARS research the opportunity to provide input on the impact of the research conducted by ARS in the last National Program cycle. This input will be used for planning the research agenda for the next 5-year program cycle.

DATES: Comments must be received by May 2, 2022 to be assured of consideration.

ADDRESSES: Address all comments concerning this notice to Ms. Janice Boarman, Program Analyst, Agricultural Research Service, Office of National Programs, 5601 Sunnyside Avenue, GWCC, Room 2-2035, Beltsville, Maryland 20705-5138. Submit electronic comments to Janice.Boarman@usda.gov.

FOR FURTHER INFORMATION CONTACT: Ms. Janice Boarman at (301) 504-4764.

SUPPLEMENTARY INFORMATION:

Title: ARS Animal Health National Program Assessment Evaluation Form.

OMB Number: 0518-0042.

Expiration Date: September 30, 2022.

Type of Request: Approval to seek reinstatement of the ARS Animal Health National Program Assessment Survey. This voluntary information collection will give beneficiaries of ARS research the opportunity to provide input on the impact of the research conducted by ARS in the last National Program cycle for the Animal Health National Program. This survey seeks input from beneficiaries of research conducted by ARS for program planning and ensures alignment of the ARS National Programs with the needs of our customers, partners, and stakeholders.

Abstract: ARS research covers the span of nutrition, food safety and quality, animal and plant production and protection, and natural resources and sustainable agricultural systems. It is organized into fifteen National Programs addressing specific areas of this research. These National Programs serve to bring coordination, communication, and prioritization to approximately 660 research projects carried out by ARS and focus on the relevance, impact, and quality of ARS research. The requested voluntary electronic evaluation survey will give beneficiaries of ARS research the opportunity to provide input on the impact of the ARS Animal Health National Program. For the purpose of this National Program Assessment, impact is defined as research that has influenced or will significantly influence the area covered by the National Program; has created or will create information, best practices, and/or economic opportunities for the National Program's customers, partners, and stakeholders; or has enabled or will enable action and regulatory agencies to formulate policies and regulations to support American agriculture. The electronic evaluation form will be available online through a dedicated URL. The input provided through the completion of the evaluation form will be shared with customers, partners, stakeholders, and ARS Administrators as part of the National Program's assessment process. ARS National Program Assessments are conducted every 5 years as part of ARS' National Program planning cycle to ensure the relevance, quality, and impact of ARS research. The assessment serves as both a retrospective evaluation and as the foundation for future priority setting for the Agency. The electronic evaluation form will allow ARS to outreach to its many customers, partners and stakeholders that are unable to participate in planned assessment meetings and also ensures an efficient means of obtaining the greatest amount of input on the impact and direction of the ARS Animal Health National Program.

Estimate of Burden: Completing the electronic evaluation form is estimated to average 15 minutes per response.

Estimated Number of Respondents: 600.

Estimated Number of Responses per Respondent: 1.

Estimated Total Annual Burden on Respondents: 150 hours.

Comments are invited on (a) whether the proposed collection of information is necessary for the proper performance of the functions of the Agency, including whether the information will have practical utility; (b) the accuracy of the Agency's estimate of the burden of the proposed collection of information, including the validity of the methodology and the assumptions used; (c) ways to enhance the quality, utility, and clarity of the input provided by a wide array of customers, and; (d) ways to minimize the burden of the collection of information on those who respond, including the use of appropriate automated, electronic, mechanical, or other technology. Comments should be sent to the address in the preamble. All responses to this notice will be summarized and included in the request for OMB approval. All comments will become a matter of public record.

Simon Y. Liu,
Associate Administrator, ARS.

[FR Doc. 2022-04443 Filed 3-2-22; 8:45 am]

BILLING CODE 3410-03-P